DEPARTMENT OF EDUCATION

Submission for OMB Review; Comment Request

AGENCY: Department of Education.

ACTION: Correction notice.

SUMMARY: On November 19, 2002, the Department of Education published a 30-day public comment period notice in the Federal Register (Page 69729, Column 1) for the information collection, “School Improvement: Foreign Language Assistance Program for Local Educational Agencies”. Under reporting and recordkeeping burden, responses were stated as 150 and burden hours as 12,000. The correct responses are 250 and the burden hours are 20,000. The Leader, Regulatory Management Group, Office of the Chief Information Officer, hereby issues a correction notice as required by the Paperwork Reduction Act of 1995.

FOR FURTHER INFORMATION CONTACT: Sheila Carey at her e-mail address Sheila.Carey@ed.gov

Dated: November 26, 2002.
John D. Tressler,
Leader, Regulatory Management Group, Office of the Chief Information Officer.

[FR Doc. 02-30540 Filed 12-2-02; 8:45 am]

BILLING CODE 4000-01-P